DEPARTMENT OF THE INTERIOR

Bureau of Land Management

[PO4820000251]

Notice of Availability of the Record of Decision and Approved Resource Management Plan for the Rock Springs Field Office, Wyoming

AGENCY: Bureau of Land Management, Interior.

ACTION: Notice of availability.

SUMMARY: The Bureau of Land Management (BLM) announces the availability of the Record of Decision (ROD) for the Approved Resource Management Plan (RMP) Amendment for the Rock Springs Field Office located in Rock Springs, Wyoming. The BLM Principal Deputy Director signed the ROD on December 20, 2024, which constitutes the decision of the BLM and makes the Approved RMP effective immediately.

DATES: The BLM Principal Deputy Director signed the ROD/Approved RMP Amendment on December 20, 2024.

ADDRESSES: The ROD/Approved RMP is available online at the RMP ePlanning website: https://eplanning.blm.gov/eplanning-ui/project/13853/510. Printed copies of the ROD/Approved RMP are available for public inspection at the Rock Springs Field Office (RSFO) or can be provided upon request by contacting Kimberlee Foster, Field Manager, telephone (307) 352-0201; or at the address BLM Rock Springs Field Office, 280 Highway 191 North, Rock Springs, WY 82901; email kfoster@blm.gov.

A copy of the Protest Resolution Report is available at: https://www.blm.gov/programs/planning-and-nepa/public-participation/protest-resolution-reports.

FOR FURTHER INFORMATION CONTACT: Kimberlee Foster, Field Manager, telephone 307-352-0201; address 280 Hwy. 191 N, Rock Springs, WY 82901; email BLM_WY_RockSpringsRMP@blm.gov. Individuals in the United States who are deaf, deafblind, hard of hearing, or have a speech disability may dial 711 (TTY, TDD, or TeleBraille) to access telecommunications relay services for contacting the individual listed above. Individuals outside the United States should use the relay services offered within their country to make international calls to the point-of-contact in the United States.

SUPPLEMENTARY INFORMATION: The planning area is located in portions of Lincoln, Sweetwater, Uinta, Sublette, and Fremont counties in southwestern Wyoming, and encompasses approximately 3.6 million acres of public land.

Resources on lands administered by the BLM within the planning area are currently managed under the Green River RMP (1997) and Jack Morrow Hills Coordinated Activity Plan (CAP) (2006), as amended. The purpose of the Rock Springs RMP revision is to provide an updated, comprehensive, and environmentally adequate framework for managing and allocating uses of public lands and resources administered by the BLM in the RSFO. The Rock Springs RMP EIS evaluated a variety of resource conflicts and considered uses such as energy and minerals development, renewable energy, transmission infrastructure, lands and realty actions, and livestock grazing/rangeland management, as well as resource protections for cultural and historic resources and wildlife habitat.

The BLM published a notice of availability for the Draft EIS and RMP in the Federal Register on August 17, 2023, which initiated a 152-day comment period (88 FR 56654). During the public comment period, the BLM received more than 35,000 unique written submissions containing approximately 4000 substantive comments. The Draft EIS comments helped the BLM refine the Final EIS and guided the development of the Proposed RMP.

The BLM provided the Proposed RMP for public protest on August 23, 2024 (89 FR 68187), for a 30-day protest period, and received 27 letters that contained valid protests. The BLM Assistant Director for Resources and Planning resolved all protests. Responses to protest issues were compiled and documented in a Protest Resolution Report (see ADDRESSES). No changes were made to the Approved RMP as a result of protest resolution.

The BLM provided the Proposed RMP to the Governor of Wyoming for a 60-day Governor's consistency review. The State Director made no changes to the Proposed RMP as a result of the Governor's review. On December 13, 2024, the Governor submitted an appeal to the BLM on the State Director's response to the Governor's consistency review. In accordance with planning regulations (1610.3-2), the BLM notified the Governor on December 20, 2024, of the reasons for the determination to reject the Governor's recommendations.

(Authority: 40 CFR 1506.6; 43 CFR 1610.5-1)

Andrew Archuleta,
BLM State Director.

[FR Doc. 2025-00079 Filed 1-6-25; 8:45 am]

BILLING CODE 4310-22-P